NUCLEAR REGULATORY COMMISSION

[NRC-2017-0104]

Biweekly Notice: Applications and Amendments to Facility Operating Licenses and Combined Licenses Involving No Significant Hazards Considerations

AGENCY: Nuclear Regulatory Commission.

ACTION: Biweekly notice.

SUMMARY: Pursuant to the Atomic Energy Act of 1954, as amended (the Act), the U.S. Nuclear Regulatory Commission (NRC) is publishing this regular biweekly notice. The Act requires the Commission to publish notice of any amendments issued, or proposed to be issued, and grants the Commission the authority to issue and make immediately effective any amendment to an operating license or combined license, as applicable, upon a determination by the Commission that such amendment involves no significant hazards consideration, notwithstanding the pendency before the Commission of a request for a hearing from any person.

This biweekly notice includes all notices of amendments issued, or proposed to be issued, from March 28, 2017, to April 10, 2017. The last biweekly notice was published on April 11, 2017.

DATES: Comments must be filed by May 25, 2017. A request for a hearing must be filed by June 26, 2017.

ADDRESSES: You may submit comments by any of the following methods:

• Federal Rulemaking Web site: Go to http://www.regulations.gov and search for Docket ID NRC-2017-0104. Address questions about NRC dockets to Carol Gallagher; telephone: 301-415-3463; email: Carol.Gallagher@nrc.gov. For technical questions, contact the individual listed in the FOR FURTHER INFORMATION CONTACT section of this document.

• Mail comments to: Cindy Bladey, Office of Administration, Mail Stop: OWFN-12-H08, U.S. Nuclear Regulatory Commission, Washington, DC 20555-0001.

For additional direction on obtaining information and submitting comments, see “Obtaining Information and Submitting Comments” in the SUPPLEMENTARY INFORMATION section of this document.

FOR FURTHER INFORMATION CONTACT: Lynn Ronewicz, Office of Nuclear Reactor Regulation, U.S. Nuclear Regulatory Commission, Washington, DC 20555-0001; telephone: 301-415-1927, email: lynn.ronewicz@nrc.gov.

SUPPLEMENTARY INFORMATION:

I. Obtaining Information and Submitting Comments

A. Obtaining Information

Please refer to Docket ID NRC-2017-0104, facility name, unit number(s), plant docket number, application date, and subject, when contacting the NRC about the availability of information for this action. You may obtain publicly-available information related to this action by any of the following methods:

• Federal Rulemaking Web site: Go to http://www.regulations.gov and search for Docket ID NRC-2017-0104.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document.

• NRC's PDR: You may examine and purchase copies of public documents at the NRC's PDR, Room O1-F21, One White Flint North, 11555 Rockville Pike, Rockville, Maryland 20852.

B. Submitting Comments

Please include Docket ID NRC-2017-0104, facility name, unit number(s), plant docket number, application date, and subject, in your comment submission. The NRC cautions you not to include identifying or contact information that you do not want to be publicly disclosed in your comment submission. The NRC posts all comment submissions at http://www.regulations.gov as well as entering the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment submissions into ADAMS.

II. Notice of Consideration of Issuance of Amendments to Facility Operating Licenses and Combined Licenses and Proposed No Significant Hazards Consideration Determination

The Commission has made a proposed determination that the following amendment requests involve no significant hazards consideration. Under the Commission's regulations in § 50.92 of title 10 of the Code of Federal Regulations (10 CFR), this means that operation of the facility in accordance with the proposed amendment would not (1) involve a significant increase in the probability or consequences of an accident previously evaluated, or (2) create the possibility of a new or different kind of accident from any accident previously evaluated; or (3) involve a significant reduction in a margin of safety. The basis for this proposed determination for each amendment request is shown below.

The Commission is seeking public comments on this proposed determination. Any comments received within 30 days after the date of publication of this notice will be considered in making any final determination.

Normally, the Commission will not issue the amendment until the expiration of 60 days after the date of publication of this notice. The Commission may issue the license amendment before expiration of the 60-day period provided that its final determination is that the amendment involves no significant hazards consideration. In addition, the Commission may issue the amendment prior to the expiration of the 30-day comment period if circumstances change during the 30-day comment period such that failure to act in a timely way would result, for example in derating or shutdown of the facility. If the Commission takes action prior to the expiration of either the comment period or the notice period, it will publish in the Federal Register a notice of issuance. If the Commission makes a final no significant hazards consideration determination, any hearing will take place after issuance. The Commission expects that the need to take this action will occur very infrequently.

A. Opportunity To Request a Hearing and Petition for Leave To Intervene

Within 60 days after the date of publication of this notice, any persons (petitioner) whose interest may be affected by this action may file a request for a hearing and petition for leave to intervene (petition) with respect to the action. Petitions shall be filed in accordance with the Commission's “Agency Rules of Practice and Procedure” in 10 CFR part 2. Interested persons should consult a current copy of 10 CFR 2.309. The NRC's regulations are accessible electronically from the NRC Library on the NRC's Web site at http://www.nrc.gov/reading-rm/doc-collections/cfr/. Alternatively, a copy of the regulations is available at the NRC's Public Document Room, located at One White Flint North, Room O1-F21, 11555 Rockville Pike (first floor), Rockville, Maryland 20852. If a petition is filed, the Commission or a presiding officer will rule on the petition and, if appropriate, a notice of a hearing will be issued.

As required by 10 CFR 2.309(d) the petition should specifically explain the reasons why intervention should be permitted with particular reference to the following general requirements for standing: (1) The name, address, and telephone number of the petitioner; (2) the nature of the petitioner's right under the Act to be made a party to the proceeding; (3) the nature and extent of the petitioner's property, financial, or other interest in the proceeding; and (4) the possible effect of any decision or order which may be entered in the proceeding on the petitioner's interest.

In accordance with 10 CFR 2.309(f), the petition must also set forth the specific contentions which the petitioner seeks to have litigated in the proceeding. Each contention must consist of a specific statement of the issue of law or fact to be raised or controverted. In addition, the petitioner must provide a brief explanation of the bases for the contention and a concise statement of the alleged facts or expert opinion which support the contention and on which the petitioner intends to rely in proving the contention at the hearing. The petitioner must also provide references to the specific sources and documents on which the petitioner intends to rely to support its position on the issue. The petition must include sufficient information to show that a genuine dispute exists with the applicant or licensee on a material issue of law or fact. Contentions must be limited to matters within the scope of the proceeding. The contention must be one which, if proven, would entitle the petitioner to relief. A petitioner who fails to satisfy the requirements at 10 CFR 2.309(f) with respect to at least one contention will not be permitted to participate as a party.

Those permitted to intervene become parties to the proceeding, subject to any limitations in the order granting leave to intervene. Parties have the opportunity to participate fully in the conduct of the hearing with respect to resolution of that party's admitted contentions, including the opportunity to present evidence, consistent with the NRC's regulations, policies, and procedures.

Petitions must be filed no later than 60 days from the date of publication of this notice. Petitions and motions for leave to file new or amended contentions that are filed after the deadline will not be entertained absent a determination by the presiding officer that the filing demonstrates good cause by satisfying the three factors in 10 CFR 2.309(c)(1)(i) through (iii). The petition must be filed in accordance with the filing instructions in the “Electronic Submissions (E-Filing)” section of this document.

If a hearing is requested, and the Commission has not made a final determination on the issue of no significant hazards consideration, the Commission will make a final determination on the issue of no significant hazards consideration. The final determination will serve to establish when the hearing is held. If the final determination is that the amendment request involves no significant hazards consideration, the Commission may issue the amendment and make it immediately effective, notwithstanding the request for a hearing. Any hearing would take place after issuance of the amendment. If the final determination is that the amendment request involves a significant hazards consideration, then any hearing held would take place before the issuance of the amendment unless the Commission finds an imminent danger to the health or safety of the public, in which case it will issue an appropriate order or rule under 10 CFR part 2.

A State, local governmental body, Federally-recognized Indian Tribe, or agency thereof, may submit a petition to the Commission to participate as a party under 10 CFR 2.309(h)(1). The petition should state the nature and extent of the petitioner's interest in the proceeding. The petition should be submitted to the Commission by June 26, 2017. The petition must be filed in accordance with the filing instructions in the “Electronic Submissions (E-Filing)” section of this document, and should meet the requirements for petitions set forth in this section, except that under 10 CFR 2.309(h)(2) a State, local governmental body, or federally recognized Indian Tribe, or agency thereof does not need to address the standing requirements in 10 CFR 2.309(d) if the facility is located within its boundaries. Alternatively, a State, local governmental body, Federally-recognized Indian Tribe, or agency thereof may participate as a non-party under 10 CFR 2.315(c).

If a hearing is granted, any person who is not a party to the proceeding and is not affiliated with or represented by a party may, at the discretion of the presiding officer, be permitted to make a limited appearance pursuant to the provisions of 10 CFR 2.315(a). A person making a limited appearance may make an oral or written statement of his or her position on the issues but may not otherwise participate in the proceeding. A limited appearance may be made at any session of the hearing or at any prehearing conference, subject to the limits and conditions as may be imposed by the presiding officer. Details regarding the opportunity to make a limited appearance will be provided by the presiding officer if such sessions are scheduled.

B. Electronic Submissions (E-Filing)

All documents filed in NRC adjudicatory proceedings, including a request for hearing and petition for leave to intervene (petition), any motion or other document filed in the proceeding prior to the submission of a request for hearing or petition to intervene, and documents filed by interested governmental entities that request to participate under 10 CFR 2.315(c), must be filed in accordance with the NRC's E-Filing rule (72 FR 49139; August 28, 2007, as amended at 77 FR 46562, August 3, 2012). The E-Filing process requires participants to submit and serve all adjudicatory documents over the internet, or in some cases to mail copies on electronic storage media. Detailed guidance on making electronic submissions may be found in the Guidance for Electronic Submissions to the NRC and on the NRC Web site at http://www.nrc.gov/site-help/e-submittals.html. Participants may not submit paper copies of their filings unless they seek an exemption in accordance with the procedures described below.

To comply with the procedural requirements of E-Filing, at least 10 days prior to the filing deadline, the participant should contact the Office of the Secretary by email at hearing.docket@nrc.gov, or by telephone at 301-415-1677, to (1) request a digital identification (ID) certificate, which allows the participant (or its counsel or representative) to digitally sign submissions and access the E-Filing system for any proceeding in which it is participating; and (2) advise the Secretary that the participant will be submitting a petition or other adjudicatory document (even in instances in which the participant, or its counsel or representative, already holds an NRC-issued digital ID certificate). Based upon this information, the Secretary will establish an electronic docket for the hearing in this proceeding if the Secretary has not already established an electronic docket.

Information about applying for a digital ID certificate is available on the NRC's public Web site at http://www.nrc.gov/site-help/e-submittals/getting-started.html. Once a participant has obtained a digital ID certificate and a docket has been created, the participant can then submit adjudicatory documents. Submissions must be in Portable Document Format (PDF). Additional guidance on PDF submissions is available on the NRC's public Web site at http://www.nrc.gov/site-help/electronic-sub-ref-mat.html. A filing is considered complete at the time the document is submitted through the NRC's E-Filing system. To be timely, an electronic filing must be submitted to the E-Filing system no later than 11:59 p.m. Eastern Time on the due date. Upon receipt of a transmission, the E-Filing system time-stamps the document and sends the submitter an email notice confirming receipt of the document. The E-Filing system also distributes an email notice that provides access to the document to the NRC's Office of the General Counsel and any others who have advised the Office of the Secretary that they wish to participate in the proceeding, so that the filer need not serve the document on those participants separately. Therefore, applicants and other participants (or their counsel or representative) must apply for and receive a digital ID certificate before adjudicatory documents are filed so that they can obtain access to the documents via the E-Filing system.

A person filing electronically using the NRC's adjudicatory E-Filing system may seek assistance by contacting the NRC's Electronic Filing Help Desk through the “Contact Us” link located on the NRC's public Web site at http://www.nrc.gov/site-help/e-submittals.html, by email to MSHD.Resource@nrc.gov, or by a toll-free call at 1-866-672-7640. The NRC Electronic Filing Help Desk is available between 9 a.m. and 6 p.m., Eastern Time, Monday through Friday, excluding government holidays.

Participants who believe that they have a good cause for not submitting documents electronically must file an exemption request, in accordance with 10 CFR 2.302(g), with their initial paper filing stating why there is good cause for not filing electronically and requesting authorization to continue to submit documents in paper format. Such filings must be submitted by: (1) First class mail addressed to the Office of the Secretary of the Commission, U.S. Nuclear Regulatory Commission, Washington, DC 20555-0001, Attention: Rulemaking and Adjudications Staff; or (2) courier, express mail, or expedited delivery service to the Office of the Secretary, 11555 Rockville Pike, Rockville, Maryland, 20852, Attention: Rulemaking and Adjudications Staff. Participants filing adjudicatory documents in this manner are responsible for serving the document on all other participants. Filing is considered complete by first-class mail as of the time of deposit in the mail, or by courier, express mail, or expedited delivery service upon depositing the document with the provider of the service. A presiding officer, having granted an exemption request from using E-Filing, may require a participant or party to use E-Filing if the presiding officer subsequently determines that the reason for granting the exemption from use of E-Filing no longer exists.

Documents submitted in adjudicatory proceedings will appear in the NRC's electronic hearing docket which is available to the public at https://adams.nrc.gov/ehd, unless excluded pursuant to an order of the Commission or the presiding officer. If you do not have an NRC-issued digital ID certificate as described above, click cancel when the link requests certificates and you will be automatically directed to the NRC's electronic hearing dockets where you will be able to access any publicly available documents in a particular hearing docket. Participants are requested not to include personal privacy information, such as social security numbers, home addresses, or personal phone numbers in their filings, unless an NRC regulation or other law requires submission of such information. For example, in some instances, individuals provide home addresses in order to demonstrate proximity to a facility or site. With respect to copyrighted works, except for limited excerpts that serve the purpose of the adjudicatory filings and would constitute a Fair Use application, participants are requested not to include copyrighted materials in their submission.

For further details with respect to these license amendment applications, see the application for amendment which is available for public inspection in ADAMS and at the NRC's PDR. For additional direction on accessing information related to this document, see the “Obtaining Information and Submitting Comments” section of this document.

Duke Energy Carolinas, LLC, Docket Nos. 50-413 and 50-414, Catawba Nuclear Station (CNS), Units 1 and 2, York County, South Carolina

Date of amendment request: December 15, 2016. A publicly-available version is in ADAMS under Accession No. ML16350A422.

Description of amendment request: The amendments would modify Technical Specification (TS) 3.6.3, “Containment Isolation Valves,” to add a Note to TS Limited Condition for Operation 3.6.3 Required Actions A.2, C.2 and E.2 to allow isolation devices that are locked, sealed, or otherwise secured to be verified by use of administrative means. This proposed change is consistent with Technical Specification Task Force (TSTF) Traveler TSTF-269-A, Revision 2, “Allow Administrative Means of Position Verification for Locked or Sealed Valves.”

Basis for proposed no significant hazards consideration determination: As required by 10 CFR 50.91(a), the licensee has provided its analysis of the issue of no significant hazards consideration, which is presented below:

1. Does the proposed amendment involve a significant increase in the probability or consequences of an accident previously evaluated?

Response: No.

The proposed changes modify CNS TS 3.6.3, “Containment Isolation Valves.” This TS currently includes actions that require penetrations to be isolated and periodically verified to be isolated. A Note is proposed to be added to TS 3.6.3 Required Actions A.2, C.2, and E.2, to allow isolation devices that are locked, sealed, or otherwise secured to be verified by use of administrative means. The proposed changes do not affect any plant equipment, test methods, or plant operation, and is not an initiator of any analyzed accident sequence. The inoperable containment penetrations will continue to be isolated, and hence perform their isolation function. Operation in accordance with the proposed TSs will ensure that all analyzed accidents will continue to be mitigated as previously analyzed.

Therefore, the proposed changes do not involve a significant increase in the probability or consequences of any accident previously evaluated.

2. Does the proposed amendment create the possibility of a new or different kind of accident from any accident previously evaluated?

Response: No.

The proposed changes do not involve a physical alteration to the plant (i.e., no new or different type of equipment will be installed) or a change to the methods governing normal plant operation. The changes do not alter the assumptions made in the safety analysis.

Therefore, the proposed changes do not create the possibility of a new or different kind of accident from any accident previously evaluated.

3. Does the proposed amendment involve a significant reduction in the margin of safety?

Response: No.

The proposed changes will not affect the operation of plant equipment or the function of any equipment assumed in the accident analysis. Affected containment penetrations will continue to be isolated as required by the existing TS.

Therefore, the proposed changes do not involve a significant reduction in a margin of safety.

The NRC staff has reviewed the licensee's analysis and, based on this review, it appears that the three standards of 10 CFR 50.92(c) are satisfied. Therefore, the NRC staff proposes to determine that the amendment request involves no significant hazards consideration.

Attorney for licensee: Kate B. Nolan, Deputy General Counsel, Duke Energy Carolinas, LLC, 550 South Tryon Street—DEC45A, Charlotte, NC 28202-1802.

NRC Branch Chief: Michael T. Markley.

Duke Energy Carolinas, LLC, Docket Nos. 50-413 and 50-414, Catawba Nuclear Station, Units 1 and 2, York County, South Carolina

Date of amendment request: December 15, 2016. A publicly-available version is in ADAMS under Accession No. ML16350A422.

Description of amendment request: The amendments would modify Technical Specification (TS) 3.1.8, “PHYSICS TESTS Exceptions,” to allow the numbers of channels required by the Limiting Condition for Operation (LCO) section of TS 3.3.1, “Reactor Trip System (RTS) Instrumentation,” to be reduced from “4” to “3” to allow one nuclear instrumentation channel to be used as an input to the reactivity computer for physics testing without placing the nuclear instrumentation channel in a tripped condition. This proposed change is consistent with Technical Specification Task Force (TSTF) Traveler TSTF-315-A, Revision 0, “Reduce Plant Trips Due to Spurious Signals to the NIS During Physics Testing.”

Basis for proposed no significant hazards consideration determination: As required by 10 CFR 50.91(a), the licensee has provided its analysis of the issue of no significant hazards consideration, which is presented below:

1. Does the proposed amendment involve a significant increase in the probability or consequences of an accident previously evaluated?

Response: No.

The proposed changes revise TS 3.1.8, “PHYSICS TESTS Exceptions,” to allow the number of channels required by LCO 3.3.1, “RTS Instrumentation,” to be reduced from “4” to “3,” to allow one nuclear instrumentation channel to be used as an input to the reactivity computer for physics testing without placing the nuclear instrumentation channel in a tripped condition. A reduction in the number of required nuclear instrumentation channels is not an initiator to any accident previously evaluated. With the nuclear instrumentation channel placed in bypass instead of in trip, reactor protection is still provided by the nuclear instrumentation system operating in a two-out-of-three channel logic. As a result, the ability to mitigate any accident previously evaluated is not significantly affected. The proposed changes will not affect the source term, containment isolation, or radiological release assumptions used in evaluating the radiological consequences of any accident previously evaluated.

Therefore, the proposed changes do not involve a significant increase in the probability or consequences of any accident previously evaluated.

2. Does the proposed amendment create the possibility of a new or different kind of accident from any accident previously evaluated?

Response: No.

The proposed changes do not involve a physical alteration to the plant (i.e., no new or different type of equipment will be installed) or a change to the methods governing normal plant operation. The changes do not alter the assumptions made in the safety analysis.

Therefore, the proposed changes do not create the possibility of a new or different kind of accident from any accident previously evaluated.

3. Does the proposed amendment involve a significant reduction in the margin of safety?

Response: No.

The proposed changes reduce the probability of a spurious reactor trip during physics testing. The reactor trip system continues to be capable of protecting the reactor utilizing the power range neutron flux trips operating in a two-out-of-three trip logic. As a result, the reactor is protected and the probability of a spurious reactor trip is significantly reduced.

Therefore, the proposed changes do not involve a significant reduction in a margin of safety.

The NRC staff has reviewed the licensee's analysis and, based on this review, it appears that the three standards of 10 CFR 50.92(c) are satisfied. Therefore, the NRC staff proposes to determine that the amendment request involves no significant hazards consideration.

Attorney for licensee: Kate B. Nolan, Deputy General Counsel, Duke Energy Carolinas, LLC, 550 South Tryon Street—DEC45A, Charlotte, NC 28202-1802.

NRC Branch Chief: Michael T. Markley.

Duke Energy Carolinas, LLC, Docket Nos. 50-413 and 50-414, Catawba Nuclear Station (CNS), Units 1 and 2, York County, South Carolina

Date of amendment request: December 15, 2016. A publicly-available version is in ADAMS under Accession No. ML16350A422.

Description of amendment request: The amendments would modify Technical Specification (TS) 3.4.10, “Pressurizer Safety Valves”; TS 3.7.4, “Steam Generator Power Operated Relief Valves (SG PORVs)”; and TS 3.7.6, “Condensate Storage System,” to revise the Completion Times for Limiting Condition for Operation (LCO) of TS 3.4.10 Required Action B.2, LCO 3.7.4 Required Action C.2, and LCO 3.7.6 Required Action B.2 from 12 hours to 24 hours. The proposed changes are consistent with Technical Specification Task Force (TSTF) Traveler TSTF-352-A, Revision 1, “Provide Consistent Completion Time to Reach MODE 4.”

Basis for proposed no significant hazards consideration determination: As required by 10 CFR 50.91(a), the licensee has provided its analysis of the issue of no significant hazards consideration, which is presented below:

1. Does the proposed amendment involve a significant increase in the probability or consequences of an accident previously evaluated?

Response: No.

The proposed changes allow a more reasonable time to plan and execute required actions, and will not adversely affect accident initiators or precursors nor alter the design assumptions, conditions, and configuration of the facility or the manner in which the plant is operated and maintained. The proposed changes will not alter or prevent the ability of structures, systems, and components (SSCs) from performing their intended functions to mitigate the consequences of an initiating event within the assumed acceptance limits. The proposed changes do not physically alter safety-related systems nor affect the way in which safety-related systems perform their functions. All accident analysis acceptance criteria will continue to be met with the proposed changes. The proposed changes will not affect the source term, containment isolation, or radiological release assumptions used in evaluating the radiological consequences of an accident previously evaluated. The proposed changes will not alter any assumptions or change any mitigation actions in the radiological consequence evaluations in the CNS Updated Final Safety Analysis Report (UFSAR). The applicable radiological dose acceptance criteria will continue to be met.

Therefore, the proposed changes do not involve a significant increase in the probability or consequences of an accident previously evaluated.

2. Does the proposed amendment create the possibility of a new or different kind of accident from any accident previously evaluated?

Response: No.

There are no proposed design changes nor are there any changes in the method by which any safety-related plant SSC performs its safety function. The proposed changes will not affect the normal method of plant operation or change any operating parameters. No equipment performance requirements will be affected. The proposed changes will not alter any assumptions made in the safety analyses.

No new accident scenarios, transient precursors, failure mechanisms, or limiting single failures will be introduced as a result of this amendment. There will be no adverse effect or challenges imposed on any safety-related system as a result of this amendment.

Therefore, the proposed changes do not create the possibility of a new or different accident from any accident previously evaluated.

3. Does the proposed amendment involve a significant reduction in the margin of safety?

Response: No.

Margin of safety is related to the confidence in the ability of the fission product barriers to perform their intended functions. These barriers include the fuel cladding, the reactor coolant system pressure boundary, and the containment barriers. The proposed changes will not have any impact on these barriers. No accident mitigating equipment will be adversely impacted. Therefore, existing safety margins will be preserved. None of the proposed changes will involve a significant reduction in a margin of safety.

The NRC staff has reviewed the licensee's analysis and, based on this review, it appears that the three standards of 10 CFR 50.92(c) are satisfied. Therefore, the NRC staff proposes to determine that the amendment request involves no significant hazards consideration.

Attorney for licensee: Kate B. Nolan, Deputy General Counsel, Duke Energy Carolinas, LLC, 550 South Tryon Street—DEC45A, Charlotte, NC 28202-1802.

NRC Branch Chief: Michael T. Markley.

Duke Energy Carolinas, LLC, Docket Nos. 50-413 and 50-414, Catawba Nuclear Station, Units 1 and 2, York County, South Carolina

Date of amendment request: December 15, 2016. A publicly-available version is in ADAMS under Accession No. ML16350A422.

Description of amendment request: The amendments would modify Technical Specification (TS) 3.4.12, “Low Temperature Overpressure Protection (LTOP) System,” to increase the time allowed for swapping charging pumps to 1 hour. Additionally, an existing note in the Applicability section of TS 3.4.12 is being reworded and relocated to the Limiting Condition for Operation section of TS 3.4.12 as Note 2. These proposed changes are consistent with Technical Specification Task Force (TSTF) Traveler TSTF-285-A, Revision 1, “Charging Pump Swap LTOP Allowance.”

Basis for proposed no significant hazards consideration determination: As required by 10 CFR 50.91(a), the licensee has provided its analysis of the issue of no significant hazards consideration, which is presented below:

1. Does the proposed amendment involve a significant increase in the probability or consequences of an accident previously evaluated?

Response: No.

The proposed changes increase the time allowed for swapping charging pumps from 15 minutes to one hour, and make several other associated administrative changes and clarifications to the TS. These changes do not affect event initiators or precursors. Thus, the proposed changes do not involve a significant increase in the probability of an accident previously evaluated. In addition, the proposed changes do not alter any assumptions previously made in the radiological consequence evaluations nor affect mitigation of the radiological consequences of an accident described in the Updated Final Safety Analysis Report (UFSAR). As such, the consequences of accidents previously evaluated in the UFSAR will not be increased and no additional radiological source terms are generated. Therefore, there will be no reduction in the capability of those SSCs [structures, systems, and components] in limiting the radiological consequences of previously evaluated accidents, and reasonable assurance that there is no undue risk to the health and safety of the public will continue to be provided. Thus, the proposed changes do not involve a significant increase in the consequences of an accident previously evaluated.

Therefore, the proposed changes do not involve a significant increase in the probability or consequences of an accident previously evaluated.

2. Does the proposed amendment create the possibility of a new or different kind of accident from any accident previously evaluated?

Response: No.

The proposed changes do not involve physical changes to analyzed SSCs or changes to the modes of plant operation defined in the technical specification. The proposed changes do not involve the addition or modification of plant equipment (no new or different type of equipment will be installed) nor do they alter the design or operation of any plant systems. No new accident scenarios, accident or transient initiators or precursors, failure mechanisms, or limiting single failures are introduced as a result of the proposed changes. The proposed changes do not cause the malfunction of safety-related equipment assumed to be operable in accident analyses. No new or different mode of failure has been created and no new or different equipment performance requirements are imposed for accident mitigation. As such, the proposed changes have no effect on previously evaluated accidents.

Therefore, the proposed changes do not create the possibility of a new or different kind of accident from any previously evaluated.

3. Does the proposed amendment involve a significant reduction in the margin of safety?

Response: No.

The proposed changes do not adversely affect any current plant safety margins or the reliability of the equipment assumed in the safety analysis. Therefore, there are no changes being made to any safety analysis assumptions, safety limits or limiting safety system settings that would adversely affect plant safety as a result of the proposed changes.

Therefore, the proposed changes do not involve a significant reduction in a margin of safety.

The NRC staff has reviewed the licensee's analysis and, based on this review, it appears that the three standards of 10 CFR 50.92(c) are satisfied. Therefore, the NRC staff proposes to determine that the amendment request involves no significant hazards consideration.

Attorney for licensee: Kate B. Nolan, Deputy General Counsel, Duke Energy Carolinas, LLC, 550 South Tryon Street—DEC45A, Charlotte, NC 28202-1802.

NRC Branch Chief: Michael T. Markley.

Duke Energy Carolinas, LLC, Docket Nos. 50-413 and 50-414, Catawba Nuclear Station, Units 1 and 2, York County, South Carolina

Date of amendment request: December 15, 2016. A publicly-available version is in ADAMS under Accession No. ML16350A422.

Description of amendment request: The amendments would modify Technical Specification (TS) 3.7.5, “Auxiliary Feedwater (AFW) System,” to expand the TS 3.7.5 Limiting Condition for Operation, Condition A, to include the situation when one turbine driven AFW pump is operable in MODE 3, immediately following a refueling outage (if MODE 2 has not been entered), with a 7-day Completion Time. This proposed change is consistent with Technical Specification Task Force (TSTF) Traveler TSTF-340-A, Revision 3, “Allow 7 Day Completion Time for a Turbine-Driven AFW Pump Inoperable.”

Basis for proposed no significant hazards consideration determination: As required by 10 CFR 50.91(a), the licensee has provided its analysis of the issue of no significant hazards consideration, which is presented below:

1. Does the proposed amendment involve a significant increase in the probability or consequences of an accident previously evaluated?

Response: No.

The proposed changes revise TS 3.7.5, “Auxiliary Feedwater (AFW) System,” to allow a 7 day Completion Time to restore an inoperable AFW turbine-driven pump in MODE 3 immediately following a refueling outage, if MODE 2 has not been entered. An inoperable AFW turbine-driven pump is not an initiator of any accident previously evaluated. The ability of the plant to mitigate an accident is no different while in the extended Completion Time than during the existing Completion Time. The proposed changes will not affect the source term, containment isolation, or radiological release assumptions used in evaluating the radiological consequences of any accident previously evaluated.

Therefore, the proposed changes do not involve a significant increase in the probability or consequences of any accident previously evaluated.

2. Does the proposed amendment create the possibility of a new or different kind of accident from any accident previously evaluated?

Response: No.

The proposed changes do not involve a physical alteration to the plant (i.e., no new or different type of equipment will be installed) or a change to the methods governing normal plant operation. The changes do not alter the assumptions made in the safety analysis.

Therefore, the proposed changes do not create the possibility of a new or different kind of accident from any accident previously evaluated.

3. Does the proposed amendment involve a significant reduction in the margin of safety?

Response: No.

The proposed changes revise TS 3.7.5, “Auxiliary Feedwater (AFW) System,” to allow a 7 day Completion Time to restore an inoperable turbine-driven AFW pump in MODE 3, immediately following a refueling outage, if MODE 2 has not been entered. In MODE 3 immediately following a refueling outage, core decay heat is low and the need for AFW is also diminished. The two operable motor driven AFW pumps are available and there are alternate means of decay heat removal if needed. As a result, the risk presented by the extended Completion Time is minimal.

Therefore, the proposed changes do not involve a significant reduction in a margin of safety.

The NRC staff has reviewed the licensee's analysis and, based on this review, it appears that the three standards of 10 CFR 50.92(c) are satisfied. Therefore, the NRC staff proposes to determine that the amendment request involves no significant hazards consideration.

Attorney for licensee: Kate B. Nolan, Deputy General Counsel, Duke Energy Carolinas, LLC, 550 South Tryon Street—DEC45A, Charlotte, NC 28202-1802.

NRC Branch Chief: Michael T. Markley.

Duke Energy Carolinas, LLC, Docket Nos. 50-413 and 50-414, Catawba Nuclear Station, Units 1 and 2, York County, South Carolina

Date of amendment request: December 15, 2016. A publicly-available version is in ADAMS under Accession No. ML16350A422.

Description of amendment request: The amendments would modify Technical Specification (TS) 3.8.1, “AC Sources—Operating,” and TS 3.8.4, “DC Sources—Operating,” to allow greater flexibility in performing Surveillance Requirements (SRs) by modifying Mode restriction notes in TS SRs 3.8.1.11, 3.8.1.16, 3.8.1.17, 3.8.1.19, 3.8.4.8, and 3.8.4.9. This proposed change is consistent with Technical Specification Task Force (TSTF) Traveler TSTF-283-A, Revision 3, “Modify Section 3.8 Mode Restriction Notes.”

Basis for proposed no significant hazards consideration determination: As required by 10 CFR 50.91(a), the licensee has provided its analysis of the issue of no significant hazards consideration, which is presented below:

1. Does the proposed amendment involve a significant increase in the probability or consequences of an accident previously evaluated?

Response: No.

The proposed changes modify Mode restriction Notes in TS SRs 3.8.1.11, 3.8.1.16, 3.8.1.17, 3.8.1.19, 3.8.4.8, and 3.8.4.9 to allow performance of the Surveillance in whole or in part to reestablish Diesel Generator (DG) Operability, and to allow the crediting of unplanned events that satisfy the Surveillance Requirements. The emergency diesel generators and their associated emergency loads are accident mitigating features, and are not an initiator of any accident previously evaluated. As a result, the probability of any accident previously evaluated is not significantly increased. To manage any increase in risk, the proposed changes require an assessment to verify that plant safety will be maintained or enhanced by performance of the Surveillance in the current prohibited Modes. The radiological consequences of an accident previously evaluated during the period that the DG is being tested to reestablish operability are no different from the radiological consequences of an accident previously evaluated while the DG is inoperable. As a result, the consequences of any accident previously evaluated are not increased.

Therefore, the proposed changes do not involve a significant increase in the probability or consequences of any accident previously evaluated.

2. Does the proposed amendment create the possibility of a new or different kind of accident from any accident previously evaluated?

Response: No.

The proposed changes do not involve a physical alteration to the plant (i.e., no new or different type of equipment will be installed) or a change to the methods governing normal plant operation. The changes do not alter the assumptions made in the safety analysis.

Therefore, the proposed changes do not create the possibility of a new or different kind of accident from any accident previously evaluated.

3. Does the proposed amendment involve a significant reduction in the margin of safety?

Response: No.

The purpose of Surveillances is to verify that equipment is capable of performing its assumed safety function. The proposed changes will only allow the performance of the Surveillances to reestablish operability, and the proposed changes may not be used to remove a DG from service. In addition, the proposed changes will potentially shorten the time that a DG is unavailable because testing to reestablish operability can be performed without a plant shutdown. The proposed changes also require an assessment to verify that plant safety will be maintained or enhanced by performance of the Surveillance in the current prohibited Modes.

Therefore, the proposed changes do not involve a significant reduction in a margin of safety.

The NRC staff has reviewed the licensee's analysis and, based on this review, it appears that the three standards of 10 CFR 50.92(c) are satisfied. Therefore, the NRC staff proposes to determine that the amendment request involves no significant hazards consideration.

Attorney for licensee: Kate B. Nolan, Deputy General Counsel, Duke Energy Carolinas, LLC, 550 South Tryon Street—DEC45A, Charlotte, NC 28202-1802.

NRC Branch Chief: Michael T. Markley.

Duke Energy Carolinas, LLC, Docket Nos. 50-413 and 50-414, Catawba Nuclear Station (CNS), Units 1 and 2, York County, South Carolina

Date of amendment request: December 15, 2016. A publicly-available version is in ADAMS under Accession No. ML16350A422.

Description of amendment request: The amendments would modify Technical Specification (TS) 3.9.5, “Residual Heat Removal (RHR) and Coolant Circulation—Low Water Level,” to add Note 1 to the Limiting Condition for Operation (LCO) Section of TS 3.9.5 to allow the securing of the operating train of RHR for up to 15 minutes to support switching operating trains. The allowance is restricted to three conditions: (a) the core outlet temperature is maintained greater than 10 degrees Fahrenheit below saturation temperature; (b) no operations are permitted that would cause an introduction of coolant into the Reactor Coolant System (RCS) with boron concentration less than that required to meet the minimum required boron concentration of LCO 3.9.1; and (c) no draining operations to further reduce RCS water volume are permitted. Additionally, the amendments would modify the LCO Section of TS 3.9.5 to add Note 2, which would allow one required RHR loop to be inoperable for up to 2 hours for surveillance testing, provided that the other RHR loop is operable and in operation. These proposed changes are consistent with Technical Specification Task Force (TSTF) Traveler TSTF-349-A, Revision 1, “Add Note to LCO 3.9.5 Allowing Shutdown Cooling Loops Removal from Operation”; TSTF-361-A, Revision 2, “Allow Standby SDC/RHR/DHR Loop to be Inoperable to Support Testing”; and TSTF-438-A, Revision 0, “Clarify Exception Notes to be Consistent with the Requirement Being Excepted.”

Basis for proposed no significant hazards consideration determination: As required by 10 CFR 50.91(a), the licensee has provided its analysis of the issue of no significant hazards consideration, which is presented below:

1. Does the proposed amendment involve a significant increase in the probability or consequences of an accident previously evaluated?

Response: No.

The proposed changes add two notes to CNS TS LCO 3.9.5. Note 1 would allow securing the operating train of Residual Heat Removal (RHR) for up to 15 minutes to support switching operating trains, subject to certain restrictions. Note 2 to would allow one RHR loop to be inoperable for up to 2 hours for surveillance testing provided the other RHR loop is Operable and in operation. These provisions are operational allowances. Neither operational allowance is an initiator to any accident previously evaluated. In addition, the proposed changes will not affect the source term, containment isolation, or radiological release assumptions used in evaluating the radiological consequences of any accident previously evaluated.

Therefore, the proposed changes do not involve a significant increase in the probability or consequences of any accident previously evaluated.

2. Does the proposed amendment create the possibility of a new or different kind of accident from any accident previously evaluated?

Response: No.

The proposed changes do not involve a physical alteration to the plant (i.e., no new or different type of equipment will be installed) or a change to the methods governing normal plant operation. The changes do not alter the assumptions made in the safety analysis.

Therefore, the proposed changes do not create the possibility of a new or different kind of accident from any accident previously evaluated.

3. Does the proposed amendment involve a significant reduction in the margin of safety?

Response: No.

An operational allowance is proposed which would allow securing the operating train of RHR for up to 15 minutes to support switching operating trains, subject to certain restrictions. Considering these restrictions, combined with the short time frame allowed to swap operating RHR trains, and the ability to start an operating RHR train, if needed, the occurrence of an event that would require immediate operation of an RHR train is extremely remote.

An operational allowance is also proposed which would allow one RHR loop to be inoperable for up to 2 hours for surveillance testing provided the other RHR loop is operable and in operation. A similar allowance currently appears in CNS TS 3.4.7, “Reactor Coolant System (RCS) Loops—MODE 5, Loops Filled,” and CNS TS 3.4.8, “RCS Loops—MODE 5, Loops Not Filled,” and the conditions under which the operational allowance would be applied in TS 3.9.5 are not significantly different from those specifications. This operational allowance provides the flexibility to perform surveillance testing, while ensuring that there is reasonable time for operators to respond to and mitigate any expected failures. The purpose of the RHR System is to remove decay and sensible heat from the RCS, to provide mixing of borated coolant, and to prevent boron stratification. Removal of system components from service as described above, and with limitations in place to maintain the ability of the RHR System to perform its safety function, does not significantly impact the margin of safety. Operators will continue to have adequate time to respond to any off-normal events. Removing the system from service, for a limited period of time, with other operational restrictions, limits the consequences to those already assumed in the Updated Final Safety Analysis Report (UFSAR).

Therefore, the proposed changes do not involve a significant reduction in the margin of safety.

The NRC staff has reviewed the licensee's analysis and, based on this review, it appears that the three standards of 10 CFR 50.92(c) are satisfied. Therefore, the NRC staff proposes to determine that the amendment request involves no significant hazards consideration.

Attorney for licensee: Kate B. Nolan, Deputy General Counsel, Duke Energy Carolinas, LLC, 550 South Tryon Street—DEC45A, Charlotte, NC 28202-1802.

NRC Branch Chief: Michael T. Markley.

Energy Northwest, Docket No. 50-397, Columbia Generating Station, Benton County, Washington

Date of amendment request: July 12, 2016, as supplemented by letter dated November 17, 2016. Publicly-available versions are in ADAMS under Accession Nos. ML16194A515, and ML16326A443, respectively.

Description of amendment request: The proposed amendment would reduce the minimum reactor dome pressure associated with the critical power correlation from 785 pounds per square inch gauge (psig) to 686 psig in Technical Specification (TS) 2.1.1, “Reactor Core SLs [Safety Limits],” and associated bases.

The license amendment request was originally noticed in the Federal Register on October 25, 2016 (81 FR 73433). The notice is being reissued in its entirety to revise the proposed minimum reactor dome pressure from 685 psig to 686 psig, based on the supplemental letter dated November 16, 2017.

Basis for proposed no significant hazards consideration determination: As required by 10 CFR 50.91(a), the licensee has provided its analysis of the issue of no significant hazards consideration, with NRC edits in square brackets, which is presented below:

1. Does the proposed change involve a significant increase in the probability or consequences of an accident previously evaluated?

Response: No.

The change does not involve a modification of any plant hardware; the probability and consequence of the Pressure Regulator Failure Open (PRFO) transient are essentially unchanged. The reduction in the reactor dome pressure safety limit (SL) from 785 psig to [686] psig provides greater margin to accommodate the pressure reduction during the transient within the revised TS limit.

The proposed change will continue to support the validity range for the correlations and the calculation of Minimum Core Power Ratio (MCPR) as approved. The proposed TS revision involves no significant changes to the operation of any systems or components in normal, accident or transient operating conditions.

Therefore, the proposed change does not involve a significant increase in the probability or consequences of an accident previously evaluated.

2. Does the proposed change create the possibility of a new or different kind of accident from any accident previously evaluated?

Response: No.

The proposed reduction in the reactor dome pressure SL from 785 psig to [686] psig is a change based upon previously approved documents and does not involve changes to the plant hardware or its operating characteristics. As a result, no new failure modes are being introduced.

Therefore, the change does not introduce a new or different kind of accident from those previously evaluated.

3. Does the proposed change involve a significant reduction in a margin of safety?

Response: No.

The margin of safety is established through the design of the plant structures, systems, and components, and through the parameters for safe operation and setpoints for the actuation of equipment relied upon to respond to transients and design basis accidents. The proposed change in reactor dome pressure enhances the safety margin, which protects the fuel cladding integrity during a depressurization transient, but does not change the requirements governing operation or availability of safety equipment assumed to operate to preserve the margin of safety. The change does not alter the behavior of plant equipment, which remains unchanged. The available pressure range is expanded by the change, thus offering greater margin for pressure reduction during the transient.

Therefore, the proposed change does not involve a significant reduction in the margin of safety.

The NRC staff has reviewed the licensee's analysis and, based on this review, it appears that the three standards of 10 CFR 50.92(c) are satisfied. Therefore, the NRC staff proposes to determine that the amendment request involves no significant hazards consideration.

Attorney for licensee: William A. Horin, Esq., Winston & Strawn, 1700 K Street NW., Washington, DC 20006-3817.

NRC Branch Chief: Robert J. Pascarelli.

Exelon Generation Company, LLC, Docket No. 50-410, Nine Mile Point Nuclear Station, Unit 2, Oswego County, New York

Date of amendment request: February 28, 2017. A publicly-available version is in ADAMS under Accession No. ML17059C963.

Description of amendment request: The amendment would revise the Nine Mile Point Nuclear Station, Unit 2, Technical Specifications (TSs) by replacing existing requirements related to “operations with a potential for draining the reactor vessel” with new requirements on reactor pressure vessel (RPV) water inventory control (WIC) to protect Safety Limit 2.1.1.3. Safety Limit 2.1.1.3 requires RPV water level to be greater than the top of active irradiated fuel. The proposed changes are based on Technical Specifications Task Force (TSTF) Traveler TSTF-542, Revision 2, “Reactor Pressure Vessel Water Inventory Control” (ADAMS Accession No. ML16074A448).

Basis for proposed no significant hazards consideration determination: As required by 10 CFR 50.91(a), the licensee has provided its analysis of the issue of no significant hazards consideration, which is presented below, with NRC staff edits in square brackets:

1. Does the proposed amendment involve a significant increase in the probability or consequences of an accident previously evaluated?

Response: No.

The proposed changes replace existing TS requirements related to OPDRVs [operation with potential to drain the reactor vessels] with new requirements on RPV WIC that will protect Safety Limit 2.1.1.3. Draining of RPV water inventory in Mode 4 (i.e., cold shutdown) and Mode 5 (i.e., refueling) is not an accident previously evaluated and, therefore, replacing the existing TS controls to prevent or mitigate such an event with a new set of controls has no effect on any accident previously evaluated. RPV water inventory control in Mode 4 or Mode 5 is not an initiator of any accident previously evaluated. The existing OPDRV controls or the proposed RPV WIC controls are not mitigating actions assumed in any accident previously evaluated.

The proposed changes reduce the probability of an unexpected draining event (which is not a previously evaluated accident) by imposing new requirements on the limiting time in which an unexpected draining event could result in the reactor vessel water level dropping to the top of the active fuel (TAF). These controls require cognizance of the plant configuration and control of configurations with unacceptably short drain times. These requirements reduce the probability of an unexpected draining event. The current TS requirements are only mitigating actions and impose no requirements that reduce the probability of an unexpected draining event.

The proposed changes reduce the consequences of an unexpected draining event (which is not a previously evaluated accident) by requiring an Emergency Core Cooling System (ECCS) subsystem to be operable at all times in Modes 4 and 5. The current TS requirements do not require any water injection systems, ECCS or otherwise, to be Operable in certain conditions in Mode 5. The change in requirement from two ECCS subsystems to one ECCS subsystem in Modes 4 and 5 does not significantly affect the consequences of an unexpected draining event because the proposed Actions ensure equipment is available within the limiting drain time that is as capable of mitigating the event as the current requirements. The proposed controls provide escalating compensatory measures to be established as calculated drain times decrease, such as verification of a second method of water injection and additional confirmations that containment and/or filtration would be available if needed.

The proposed changes reduces or eliminates some requirements that were determined to be unnecessary to manage the consequences of an unexpected draining event, such as automatic initiation of an ECCS subsystem and control room ventilation. These changes do not affect the consequences of any accident previously evaluated since a draining event in Modes 4 and 5 is not a previously evaluated accident and the requirements are not needed to adequately respond to a draining event.

Therefore, the proposed changes do not involve a significant increase in the probability or consequences of an accident previously evaluated.

2. Does the proposed amendment create the possibility of a new or different kind of accident from any accident previously evaluated?

Response: No.

The proposed changes replace existing TS requirements related to OPDRVs with new requirements on RPV WIC that will protect Safety Limit 2.1.1.3. The proposed changes will not alter the design function of the equipment involved. Under the proposed changes, some systems that are currently required to be operable during OPDRVs would be required to be available within the limiting drain time or to be in service depending on the limiting drain time. Should those systems be unable to be placed into service, the consequences are no different than if those systems were unable to perform their function under the current TS requirements.

The event of concern under the current requirements and the proposed change is an unexpected draining event. The proposed changes do not create new failure mechanisms, malfunctions, or accident initiators that would cause a draining event or a new or different kind of accident not previously evaluated or included in the design and licensing bases.

Therefore, the proposed changes do not create the possibility of a new or different kind of accident from any accident previously evaluated.

3. Does the proposed amendment involve a significant reduction in a margin of safety?

Response: No.

The proposed changes replace existing TS requirements related to OPDRVs with new requirements on RPV WIC. The current requirements do not have a stated safety basis and no margin of safety is established in the licensing basis. The safety basis for the new requirements is to protect Safety Limit 2.1.1.3. New requirements are added to determine the limiting time in which the RPV water inventory could drain to the top of the fuel in the reactor vessel should an unexpected draining event occur. Plant configurations that could result in lowering the RPV water level to the TAF within one hour are now prohibited. New escalating compensatory measures based on the limiting drain time replace the current controls. The proposed TS establish a safety margin by providing defense-in-depth to ensure that the Safety Limit is protected and to protect the public health and safety. While some less restrictive requirements are proposed for plant configurations with long calculated drain times, the overall effect of the change is to improve plant safety and to add safety margin.

Therefore, the proposed changes do not involve a significant reduction in a margin of safety.

The NRC staff has reviewed the licensee's analysis and, based on this review, it appears that the three standards of 10 CFR 50.92(c) are satisfied. Therefore, the NRC staff proposes to determine that the amendment request involves no significant hazards consideration.

Attorney for licensee: Tamra Domeyer, Associate General Counsel, Exelon Generation Company, LLC, 4300 Winfield Road, Warrenville, IL 60555.

NRC Branch Chief: James G. Danna.

Exelon Generation Company, LLC, Docket No. 50-219, Oyster Creek Nuclear Generating Station (OCNGS), Ocean County, New Jersey

Date of amendment request: February 28, 2017. A publicly-available version is available in ADAMS under Accession No. ML17060A289.

Description of amendment request: The licensee proposes to revise the site emergency plan to revise the on-shift staffing and the emergency response organization (ERO) staffing for a permanently defueled condition.

Basis for proposed no significant hazards consideration determination: As required by 10 CFR 50.91(a), the licensee has provided its analysis of the issue of no significant hazards consideration, which is presented below:

1. Does the proposed amendment involve a significant increase in the probability or consequences of an accident previously evaluated?

Response: No.

The proposed changes to the OCNGS Emergency Plan do not impact the function of plant Structures, Systems, or Components (SSCs). The proposed changes do not involve the modification of any plant equipment or affect plant operation. The proposed changes do not affect accident initiators or precursors, nor do the proposed changes alter design assumptions. The proposed changes do not prevent the ability of the on-shift staff and ERO to perform their intended functions to mitigate the consequences of any accident or event that will be credible in the permanently defueled condition. The proposed changes only remove positions that will no longer be needed or credited in the Emergency Plan in the permanently defueled condition.

Therefore, the proposed changes do not involve a significant increase in the probability or consequences of an accident previously evaluated.

2. Does the proposed amendment create the possibility of a new or different kind of accident from any accident previously evaluated?

Response: No.

The proposed changes reduce the number of on-shift and ERO positions commensurate with the hazards associated with a permanently shutdown and defueled facility. The proposed changes do not involve installation of new equipment or modification of existing equipment, so that no new equipment failure modes are introduced. Also, the proposed changes do not result in a change to the way that the equipment or facility is operated so that no new accident initiators are created.

Therefore, the proposed changes do not create the possibility of a new or different kind of accident from any accident previously evaluated.

3. Does the proposed amendment involve a significant reduction in a margin of safety?

Response: No.

Margin of safety is associated with confidence in the ability of the fission product barriers (i.e., fuel cladding, reactor coolant system pressure boundary, and containment structure) to limit the level of radiation dose to the public. The proposed changes do not adversely affect existing plant safety margins or the reliability of the equipment assumed to operate in the safety analyses. There are no changes being made to safety analysis assumptions, safety limits, or limiting safety system settings that would adversely affect plant safety as a result of the proposed changes. The proposed changes are associated with the Emergency Plan and staffing and do not impact operation of the plant or its response to transients or accidents. The proposed changes do not affect the Technical Specifications. The proposed changes do not involve a change in the method of plant operation, and no accident analyses will be affected by the proposed changes. Safety analysis acceptance criteria are not affected by the proposed changes and margins of safety are maintained. The revised Emergency Plan will continue to provide the necessary response staff with the proposed changes.

Therefore, the proposed changes do not involve a significant reduction in the margin of safety.

The NRC staff has reviewed the licensee's analysis and, based on this review, it appears that the three standards of 10 CFR 50.92(c) are satisfied. Therefore, the NRC staff proposes to determine that the amendment request involves no significant hazards consideration.

Attorney for licensee: Tamra Domeyer, Associate General Counsel, Exelon Generation Company, LLC, 4300 Winfield Road, Warrenville, IL 60555.

NRC Branch Chief: Douglas A. Broaddus.

Southern Nuclear Operating Company, Docket Nos. 52-025 and 52-026, Vogtle Electric Generating Plant, Units 3 and 4, Burke County, Georgia

Date of amendment request: February 24, 2017. A publicly-available version is in ADAMS under Accession No. ML17055C352.

Description of amendment request: The requested amendment proposes changes to the Updated Final Safety Analysis Report in the form of departures from the plant-specific Design Control Document (DCD) Tier 2 information, and involves changes to related plant-specific DCD Tier 1 information, with corresponding changes to the associated Combined License (COL) Appendix C information. In addition, revisions are proposed to COL Appendix A, Technical Specifications. The proposed changes revise the COLs concerning standardizing the Protection and Safety Monitoring System (PMS) setpoint nomenclature. No changes are proposed to setpoint values or PMS alarms and actuations.

Basis for proposed no significant hazards consideration determination: As required by 10 CFR 50.91(a), the licensee has provided its analysis of the issue of no significant hazards consideration, which is presented below with the NRC staff's edits in square brackets:

1. Does the proposed amendment involve a significant increase in the probability or consequences of an accident previously evaluated?

Response: No.

No setpoint values or PMS actuations are proposed to be changed by this activity. Nor are any values assumed in the safety analysis changed. This is an administrative change to standardize the PMS setpoint designators. The proposed amendment does not affect the prevention and mitigation of abnormal events, e.g., accidents, anticipated operation occurrences, earthquakes, floods, turbine missiles, and fires or their safety or design analyses. This change does not involve containment of radioactive isotopes or any adverse effect on a fission product barrier. There is no impact on previously evaluated accidents.

These proposed changes have no adverse impact on the support, design, or operation of mechanical and fluid systems. The response of systems to postulated accident conditions is not adversely affected and remains within response time assumed in the accident analysis. There is no change to the predicted radioactive releases due to normal operation or postulated accident conditions. Consequently, the plant response to previously evaluated accidents or external events is not adversely affected, nor does the proposed change create any new accident precursors.

Therefore, the requested amendment does not involve a significant increase in the probability or consequences of an accident previously evaluated.

2. Does the proposed amendment create the possibility of a new or different kind of accident from any accident previously evaluated?

Response: No.

The proposed changes do not involve a new failure mechanism or malfunction, which affects an [structure, system, component (SSC)] accident initiator, or interface with any SSC accident initiator or initiating sequence of events considered in the design and licensing bases. There is no adverse effect on radioisotope barriers or the release of radioactive materials. The proposed amendment does not adversely affect any accident, including the possibility of creating a new or different kind of accident from any accident previously evaluated.

Therefore, the proposed changes do not create the possibility of a new or different type of accident from any accident previously evaluated.

3. Does the proposed amendment involve a significant reduction in a margin of safety?

Response: No.

No setpoint values or PMS actuations are proposed to be changed by this activity. This is an administrative change to standardize the PMS setpoint designators. The proposed changes would not affect any safety-related design code, function, design analysis, safety analysis input or result, or existing design/safety margin. No safety analysis or design basis acceptance limit/criterion is challenged or exceeded by the requested changes.

Therefore the proposed amendment does not involve a significant reduction in a margin of safety.

The NRC staff has reviewed the licensee's analysis and, based on this review, it appears that the three standards of 10 CFR 50.92(c) are satisfied. Therefore, the NRC staff proposes to determine that the amendment request involves no significant hazards consideration.

Attorney for licensee: M. Stanford Blanton, Balch & Bingham LLP, 1710 Sixth Avenue North, Birmingham, AL 35203-2015.

NRC Branch Chief: Jennifer Dixon-Herrity.

Southern Nuclear Operating Company, Docket Nos. 52-025 and 52-026, Vogtle Electric Generating Plant, Units 3 and 4, Burke County, Georgia

Date of amendment request: March 15, 2017. A publicly-available version is in ADAMS under Accession No. ML17074A597.

Description of amendment request: The amendment proposes to depart from Tier 2 information in the Updated Final Safety Analysis Report (UFSAR) and involves changes to related plant-specific Tier 1 information, with corresponding changes to the associated Combined License (COL) Appendix C information, to clarify text that currently refers to raceways with an electrical classification (i.e., Class 1E/non-Class 1E). This includes rewording multiple Inspections, Tests, Analyses, and Acceptance Criteria (ITAAC) and UFSAR material to clarify that any text referring to Class 1E or non-Class 1E raceways or raceway systems is referring to raceways or raceway systems that route Class 1E or non-Class 1E circuits.

Basis for proposed no significant hazards consideration determination: As required by 10 CFR 50.91(a), the licensee has provided its analysis of the issue of no significant hazards consideration, which is presented below:

1. Does the proposed amendment involve a significant increase in the probability or consequences of an accident previously evaluated?

Response: No.

These proposed changes are for clarification and consistency. No structure, system, or component (SSC) or function is changed within this activity. There is no change to the application of regulatory guides or industry standards to raceways or raceway systems, nor is there a change to how they are designed, fabricated, procured or installed. Raceway systems that route Class 1E circuits will continue to be designated and designed as equipment Class C, safety-related, and seismic Category I structures. The proposal to align the text in COL Appendix C (and plant-specific Tier 1) Section 3.3 with the associated ITAAC is made for clarification and consistency to reduce misinterpretation. The proposal to reword multiple ITAAC in 3.3.00.07 does not change the intent of the ITAAC, nor is the ITAAC scope or closure method impacted.

The proposed amendment does not affect the prevention and mitigation of abnormal events; e.g., accidents, anticipated operation occurrences, earthquakes, floods, turbine missiles, and fires or their safety or design analyses. This change does not involve containment of radioactive isotopes or any adverse effect on a fission product barrier. There is no impact on previously evaluated accidents.

Therefore, the proposed amendment does not involve a significant increase in the probability or consequences of an accident previously evaluated.

2. Does the proposed amendment create the possibility of a new or different kind of accident from any accident previously evaluated?

Response: No.

The proposed changes do not involve a new failure mechanism or malfunction, which affects an SSC accident initiator, or interface with any SSC accident initiator or initiating sequence of events considered in the design and licensing bases. There is no adverse effect on radioisotope barriers or the release of radioactive materials. The proposed amendment does not adversely affect any accident, including the possibility of creating a new or different kind of accident from any accident previously evaluated.

Therefore, the proposed amendment does not create the possibility of a new or different kind of accident from any accident previously evaluated.

3. Does the proposed amendment involve a significant reduction in a margin of safety?

Response: No.

These proposed changes are for clarification and consistency to reduce misinterpretation. No SSC or function is changed within this activity. There is no change to the application of regulatory guides or industry standards to raceways or raceway systems, nor is there a change to how they are designed, fabricated, procured or installed. Raceway systems that route Class 1E circuits will continue to be designated and designed as Equipment Class C, safety-related, and seismic Category I.

The proposed changes would not affect any safety-related design code, function, design analysis, safety analysis input or result, or existing design/safety margin. No safety analysis or design basis acceptance limit/criterion is challenged or exceeded by the requested changes.

Therefore, the proposed amendment does not involve a significant reduction in a margin of safety.

The NRC staff has reviewed the licensee's analysis and, based on this review, it appears that the three standards of 10 CFR 50.92(c) are satisfied. Therefore, the NRC staff proposes to determine that the amendment request involves no significant hazards consideration.

Attorney for licensee: M. Stanford Blanton, Balch & Bingham LLP, 1710 Sixth Avenue North, Birmingham, AL 35203-2015.

NRC Branch Chief: Jennifer Dixon-Herrity.

Southern Nuclear Operating Company, Docket Nos. 52-025 and 52-026, Vogtle Electric Generating Plant, Units 3 and 4, Burke County, Georgia

Date of amendment request: March 8, 2017. A publicly-available version is in ADAMS under Accession No. ML17067A517.

Description of amendment request: The amendment request consists of changes to Combined License (COL) Appendix C (and corresponding changes to plant-specific Tier 1) information. Specifically, the amendment request involves changes to revise the raceway separation requirements in the Main Control Room (MCR) and Remote Shutdown Room (RSR) to provide consistency with Tier 2 information in the plant-specific Design Control Document (DCD). Pursuant to the provisions of 10 CFR 52.63(b)(1), an exemption from elements of the design as certified in the 10 CFR part 52, appendix D, design certification rule is also requested for the plant-specific DCD Tier 1 material departures.

Basis for proposed no significant hazards consideration determination: As required by 10 CFR 50.91(a), the licensee has provided its analysis of the issue of no significant hazards consideration, which is presented below:

1. Does the proposed amendment involve a significant increase in the probability or consequences of an accident previously evaluated?

Response: No.

This activity revises the raceway spacing configurations and permits spacing in accordance with existing licensing basis requirements, Regulatory Guide (RG) 1.75 and Institute of Electrical and Electronics Engineers (IEEE) 384 for the MCR and RSR.

The proposed consistency change to revise separation requirements for MCR and RSR raceways does not inhibit any systems, structures or components (SSCs) from performing their safety-related function, as raceways in the MCR and RSR are installed in accordance with spacing configurations currently specified in the Updated Final Safety Analysis Report (UFSAR) or in the code of record, IEEE 384. This proposed amendment does not have an adverse impact on the response to anticipated transients or postulated accident conditions because the functions of the SSCs are not changed. The change does not involve an interface with any SSC accident initiator or initiating sequence of events, and thus, the probabilities of the accidents evaluated in the UFSAR are not affected. Accidents associated with raceway separation are not identified in the safety analysis. The proposed changes do not involve a change to the predicted radiological releases due to postulated accident conditions, thus, the consequences of the accidents evaluated in the UFSAR are not affected.

Therefore, the proposed amendment does not involve a significant increase in the probability or consequences of an accident previously evaluated.

2. Does the proposed amendment create the possibility of a new or different kind of accident from any accident previously evaluated?

Response: No.

The proposed changes to the inspection criteria for raceway separation requirements does not adversely affect any safety-related equipment, and does not add any new interfaces to safety-related SSCs. This change provides consistency between the COL Appendix C and the UFSAR and industry standards only. System design functions and equipment qualification are not adversely affected by these changes. The changes do not introduce a new failure mode, malfunction or sequence of events that could affect plant safety or safety-related equipment as the change is for consistency with existing licensing basis requirements and industry standards. New credible failure modes are not introduced by the changes in separation requirements.

Therefore, the proposed amendment does not create the possibility of a new or different kind of accident from any accident previously evaluated.

3. Does the proposed amendment involve a significant reduction in a margin of safety?

Response: No.

The proposed change maintains compliance with the applicable Codes and Standards, thereby maintaining the margin of safety associated with these SSCs. The proposed change does not alter any applicable design codes, code compliance, design function, or safety analysis. Consequently, no safety analysis or design basis acceptance limit/criterion is challenged or exceeded by the proposed change, thus the margin of safety is not reduced.

Therefore, the proposed amendment does not involve a significant reduction in the margin of safety.

The NRC staff has reviewed the licensee's analysis and, based on this review, it appears that the three standards of 10 CFR 50.92(c) are satisfied. Therefore, the NRC staff proposes to determine that the amendment request involves no significant hazards consideration.

Attorney for licensee: M. Stanford Blanton, Balch & Bingham LLP, 1710 Sixth Avenue, North, Birmingham, AL 35203-2015.

NRC Branch Chief: Jennifer Dixon-Herrity.

Tennessee Valley Authority, Docket Nos. 50-259, 50-260, and 50-296, Browns Ferry Nuclear Plant (BFN), Units 1, 2, and 3, Limestone County, Alabama

Date of amendment request: January 17, 2017. A publicly-available version is in ADAMS under Accession No. ML17018A149.

Description of amendment request: The amendments would revise the Technical Specifications (TSs) to eliminate the “Inservice Testing Program,” contained in TS Section 5.5.6 and replace the program with a new defined term, “Inservice Testing Program,” in the TS Definitions section. This revision would be consistent with Technical Specifications Task Force (TSTF) Traveler TSTF-545, Revision 3, “TS Inservice Testing Program Removal & Clarify SR Usage Rule Application to Section 5.5 Testing.” Additionally, Tennessee Valley Authority requested implementation of TSTF-299, Revision 0, “Administrative Controls Program 5.5.2.b Test Interval and Exception,” which clarifies the intent of refueling cycle intervals with respect to the system leak test requirements (i.e., 24 month intervals) and would add the following sentence, “The provisions of SR 3.0.2 are applicable,” to TS 5.5.2.

Basis for proposed no significant hazards consideration determination: As required by 10 CFR 50.91(a), the licensee has provided its analysis of the issue of no significant hazards consideration, which is presented below:

1. Does the proposed amendment involve a significant increase in the probability or consequences of an accident previously evaluated?

Response: No.

TSTF 545, “TS Inservice Testing Program Removal & Clarify SR Usage Rule Application to Section 5.5 Testing,” Revision 3:

The proposed change revises TS Chapter 5, “Administrative Controls,” Section 5.5, “Programs and Manuals,” by eliminating the “Inservice Testing Program” specification. Most requirements in the Inservice Testing Program are removed, as they are duplicative of requirements in the [American Society of Mechanical Engineers] (ASME) [Operation and Maintenance] (OM) Code, as clarified by Code Case OMN-20, “Inservice Test Frequency.” The remaining requirements in the Section 5.5 IST Program are eliminated because the NRC has determined their inclusion in the TS is contrary to regulations. A new defined term, “Inservice Testing Program,” is added to the TS, which references the requirements of 10 CFR 50.55a(f).

Performance of inservice testing is not an initiator to any accident previously evaluated. As a result, the probability of occurrence of an accident is not significantly affected by the proposed change. Inservice test frequencies under Code Case OMN-20 are equivalent to the current testing period allowed by the TS with the exception that testing frequencies greater than 2 years may be extended by up to 6 months to facilitate test scheduling and consideration of plant operating conditions that may not be suitable for performance of the required testing. The testing frequency extension will not affect the ability of the components to mitigate any accident previously evaluated as the components are required to be operable during the testing period extension. Performance of inservice tests utilizing the allowances in OMN-20 will not significantly affect the reliability of the tested components. As a result, the availability of the affected components, as well as their ability to mitigate the consequences of accidents previously evaluated, is not affected.

TSTF-299, “Administrative Controls Program 5.5.2.b Test Interval and Exception,” Revision 0:

The proposed change affects only the interval at which system leak tests are performed, not the effectiveness of the system leak test requirements. Revising the system leak test requirements from “at refueling cycle intervals or less” to “at least once per 24 months” is considered to be an administrative change because BFN Units 1, 2, and 3 operate on 24-month fuel cycles. Incorporation of the allowance to extend the 24-month interval by 25%, as allowed by Surveillance Requirement (SR) 3.0.2, does not significantly degrade the reliability that results from performing the Surveillance at its specified Frequency.

Test intervals are not considered as initiators of any accident previously evaluated. As a result, the probability of any accident previously evaluated is not significantly increased by the proposed amendment. Technical Specification (TS) 5.5.2 continues to require the performance of periodic system leak tests. Therefore, accident analysis assumptions will still be verified. As a result, the consequences of any accident previously evaluated are not significantly increased.

Therefore, the proposed changes do not involve a significant increase in the probability or consequences of an accident previously evaluated.

2. Does the proposed amendment create the possibility of a new or different kind of accident from any accident previously evaluated?

Response: No.

TSTF 545, “TS Inservice Testing Program Removal & Clarify SR Usage Rule Application to Section 5.5 Testing,” Revision 3:

The proposed change does not alter the design or configuration of the plant. The proposed change does not involve a physical alteration of the plant; no new or different kind of equipment will be installed. The proposed change does not alter the types of inservice testing performed. In most cases, the frequency of inservice testing is unchanged. However, the frequency of testing would not result in a new or different kind of accident from any previously evaluated since the testing methods are not altered.

TSTF-299, “Administrative Controls Program 5.5.2.b Test Interval and Exception,” Revision 0:

The proposed change affects only the interval at which system leak tests are performed; they do not alter the design or physical configuration of the plant. No changes are being made to BFN Units 1, 2, or 3 that would introduce any new accident causal mechanisms.

Therefore, the proposed changes do not create the possibility of a new or different kind of accident from any previously evaluated.

3. Does the proposed amendment involve a significant reduction in a margin of safety?

Response: No.

TSTF 545, “TS Inservice Testing Program Removal & Clarify SR Usage Rule Application to Section 5.5 Testing,” Revision 3:

The proposed change eliminates some requirements from the TS in lieu of requirements in the ASME Code, as modified by use of Code Case OMN-20. Compliance with the ASME Code is required by 10 CFR 50.55a. The proposed change also allows inservice tests with frequencies greater than 2 years to be extended by 6 months to facilitate test scheduling and consideration of plant operating conditions that may not be suitable for performance of the required testing. The testing frequency extension will not affect the ability of the components to respond to an accident as the components are required to be operable during the testing period extension. The proposed change will eliminate the existing TS SR 3.0.3 allowance to defer performance of missed inservice tests up to the duration of the specified testing frequency, and instead will require an assessment of the missed test on equipment operability. This assessment will consider the effect on a margin of safety (equipment operability). Should the component be inoperable, the Technical Specifications provide actions to ensure that the margin of safety is protected. The proposed change also eliminates a statement that nothing in the ASME Code should be construed to supersede the requirements of any TS. The NRC has determined that statement to be incorrect. However, elimination of the statement will have no effect on plant operation or safety.

TSTF-299, “Administrative Controls Program 5.5.2.b Test Interval and Exception,” Revision 0:

The proposed change does not change the design or function of plant equipment. The proposed change does not significantly reduce the level of assurance that any plant equipment will be available to perform its function. The proposed change provides operating flexibility without significantly affecting plant operation.

Therefore, the proposed changes do not involve a significant reduction in a margin of safety.

The NRC staff has reviewed the licensee's analysis and, based on this review, it appears that the three standards of 10 CFR 50.92(c) are satisfied. Therefore, the NRC staff proposes to determine that the amendment request involves no significant hazards consideration.

Attorney for licensee: General Counsel, Tennessee Valley Authority, 400 West Summit Hill Dr., WT 6A, Knoxville, TN 37902.

NRC Branch Chief: Benjamin G. Beasley.

III. Notice of Issuance of Amendments to Facility Operating Licenses and Combined Licenses

During the period since publication of the last biweekly notice, the Commission has issued the following amendments. The Commission has determined for each of these amendments that the application complies with the standards and requirements of the Atomic Energy Act of 1954, as amended (the Act), and the Commission's rules and regulations. The Commission has made appropriate findings as required by the Act and the Commission's rules and regulations in 10 CFR chapter I, which are set forth in the license amendment.

A notice of consideration of issuance of amendment to facility operating license or combined license, as applicable, proposed no significant hazards consideration determination, and opportunity for a hearing in connection with these actions, was published in the Federal Register as indicated.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated.

For further details with respect to the action see (1) the applications for amendment, (2) the amendment, and (3) the Commission's related letter, Safety Evaluation, and/or Environmental Assessment as indicated. All of these items can be accessed as described in the “Obtaining Information and Submitting Comments” section of this document.

Duke Energy Carolinas, LLC, Docket Nos. 50-369 and 50-370, McGuire Nuclear Station, Units 1 and 2, Mecklenburg County, North Carolina

Date of amendment request: June 30, 2016, as supplemented by letter dated December 8, 2016.

Brief description of amendments: The amendments modified the McGuire Nuclear Station, Units 1 and 2, Technical Specification 3.6.14, “Divider Barrier Integrity,” to revise Condition D to allow either one steam generator enclosure hatch or pressurizer enclosure hatch to be open for up to 48 hours.

Date of issuance: March 27, 2017.

Effective date: As of the date of issuance and shall be implemented within 90 days of issuance.

Amendment Nos.: 294 (Unit 1) and 273 (Unit 2). A publicly available version is in ADAMS under Accession No. ML17060A481; documents related to these amendments are listed in the Safety Evaluation enclosed with the amendments.

Renewed Facility Operating License Nos. NPF-9 and NPF-17: Amendments revised the Facility Operating Licenses and Technical Specifications.

Date of initial notice in Federal Register: January 3, 2017 (83 FR 158). The supplemental letter dated December 8, 2016, provided additional information that clarified the application, did not expand the scope of the application as originally noticed, and did not change the staff's original proposed no significant hazards consideration determination as published in the Federal Register.

The Commission's related evaluation of the amendments is contained in a Safety Evaluation dated March 27, 2017.

No significant hazards consideration comments received: No.

Duke Energy Florida, LLC (DEF), et al., Docket No. 50-302, Crystal River Unit 3 Nuclear Generating Plant (CR-3), Citrus County, Florida

Date of amendment request: May 25, 2016.

Brief description of amendment: The amendment approved the Independent Spent Fuel Storage Installation (ISFSI)-Only Emergency Plan and ISFSI-Only Emergency Action Level Bases Manual, Revision 0, for the CR-3 SAFSTOR Period with Spent Fuel on Site.

Date of issuance: March 22, 2017.

Effective date: As of the date Duke Energy Florida, LLC submits written notification that all spent nuclear fuel has been transferred from the spent fuel pool to the ISFSI and shall be implemented within 60 days.

Amendment No.: 253. A publicly-available version is in ADAMS under Accession No. ML17048A473; documents related to this amendment are listed in the Safety Evaluation enclosed with the amendment.

Facility Operating License No. DPR-72: This amendment revises the Facility Operating License.

Date of initial notice in Federal Register: July 19, 2016 (81 FR 46961).

The Commission's related evaluation of the amendment is contained in a Safety Evaluation dated March 22, 2017.

No significant hazards consideration comments received: No.

Entergy Nuclear Operations, Inc., Docket No. 50-333, James A. FitzPatrick Nuclear Power Plant, Oswego County, New York

Date of amendment request: August 18, 2016, as supplemented by letter dated November 29, 2016.

Brief description of amendment: The amendment modified the Renewed Facility Operating License to reflect the license transfer from Entergy Nuclear FitzPatrick, LLC and Entergy Nuclear Operations, Inc. to Exelon Generation Company, LLC.

Date of issuance: March 31, 2017.

Effective date: As of the date of issuance and shall be implemented within 30 days of issuance.

Amendment No.: 314. A publicly-available version is in ADAMS under Accession No. ML17082A283.

Renewed Facility Operating License No. DPR-59: Amendment revised the Renewed Facility Operating License.

Date of initial notice in Federal Register: September 15, 2016 (81 FR 63500). The supplemental letter dated November 29, 2016, provided additional information that clarified the application, did not expand the scope of the application as originally noticed, and did not change the staff's original proposed no significant hazards consideration determination as published in the Federal Register.

The Commission's related evaluation of the amendment is contained in a Safety Evaluation dated March 31, 2017.

Entergy Operations, Inc., Docket No. 50-368, Arkansas Nuclear One, Unit 2, Pope County, Arkansas

Date of amendment request: March 25, 2016, as supplemented by letter dated December 7, 2016.

Brief description of amendment: The amendment deleted Technical Specification (TS) 6.5.8, “Inservice Testing Program.” A new defined term, “Inservice Testing Program,” is added to TS Section 1.0, “Definitions.” Also, existing uses of the term “Inservice Testing Program” in the TSs are capitalized throughout to indicate that it is now a defined term. The NRC staff has concluded that the amendment is consistent with Technical Specifications Task Force (TSTF) Traveler TSTF-545, Revision 3, “TS Inservice Testing Program Removal & Clarify SR Usage Rule Application to Section 5.5 Testing,” which was made available to the TSTF by NRC letter dated December 11, 2015 (ADAMS Accession No. ML15317A071).

Date of issuance: March 29, 2017.

Effective date: As of the date of issuance and shall be implemented within 90 days of issuance.

Amendment No.: 305. A publicly-available version is in ADAMS under Accession No. ML16215A371; documents related to this amendment are listed in the Safety Evaluation enclosed with the amendment.

Renewed Facility Operating License No. DPR-51: Amendment revised the Renewed Facility Operating License and TSs.

Date of initial notice in Federal Register: June 7, 2016 (81 FR 36618). The supplemental letter dated December 7, 2016, provided additional information that clarified the application, did not expand the scope of the application as originally noticed, and did not change the NRC staff's original proposed no significant hazards consideration determination as published in the Federal Register.

The Commission's related evaluation of the amendment is contained in a Safety Evaluation dated March 29, 2017.

No significant hazards consideration comments received: No.

Exelon Generation Company, LLC and PSEG Nuclear LLC, Docket Nos. 50-277 and 50-278, Peach Bottom Atomic Power Station, Units 2 and 3, York and Lancaster Counties, Pennsylvania

Date of amendment request: November 4, 2016, as supplemented by letters dated December 7, 2016, and March 13, 2017.

Brief description of amendments: The amendments revised the Allowable Value for the Turbine Condenser—Low Vacuum scram function specified in Technical Specification Table 3.3.1.1-1, “Reactor Protection System Instrumentation.”

Date of issuance: April 3, 2017.

Effective dates: For Unit 2, the amendment is effective as of its date of issuance and shall be implemented prior to startup from refueling outage P2R22, which is scheduled for completion in the fall of 2018. For Unit 3, the amendment is effective as of its date of issuance and shall be implemented prior to startup from refueling outage P3R21, which is scheduled for completion in the fall of 2017.

Amendments Nos.: 312 (Unit 2) and 316 (Unit 3). A publicly-available version is in ADAMS under Accession No. ML17052A692; documents related to these amendments are listed in the Safety Evaluation enclosed with the amendments.

Renewed Facility Operating License Nos. DPR-44 and DPR-56: The amendments revised the Renewed Facility Operating Licenses and Technical Specifications.

Date of initial notice in Federal Register: January 3, 2017 (82 FR 159). The supplemental letter dated March 13, 2017, provided additional information that clarified the application, did not expand the scope of the application as originally noticed, and did not change the staff's original proposed no significant hazards consideration determination as published in the Federal Register.

The Commission's related evaluation of the amendments is contained in a Safety Evaluation dated April 3, 2017.

No significant hazards consideration comments received: No.

Exelon Generation Company, LLC, Docket No. 50-353, Limerick Generating Station, Unit 2, Montgomery County, Pennsylvania

Date of amendment request: December 16, 2016.

Brief description of amendment: The amendment revised the Limerick Generating Station, Unit 2, Technical Specifications related to the safety limit minimum critical power ratio. The changes result from a cycle-specific analysis performed to support the operation of Limerick Generating Station, Unit 2, in the upcoming Cycle 15.

Date of issuance: March 29, 2017.

Effective date: Shall be implemented prior to startup from the spring 2017 refueling outage.

Amendment No.: 186. A publicly-available version is in ADAMS under Accession No. ML17024A089; documents related to this amendment are listed in the Safety Evaluation enclosed with the amendment.

Renewed Facility Operating License No. NPF-85: Amendment revised the Renewed Facility Operating License and Technical Specifications.

Date of initial notice in Federal Register: February 7, 2017 (82 FR 9605).

The Commission's related evaluation of the amendment is contained in a Safety Evaluation dated March 29, 2017.

No significant hazards consideration comments received: No.

Florida Power & Light Company, et al., Docket No. 50-389, St. Lucie Plant, Unit No. 2, St. Lucie County, Florida

Date of amendment request: June 21, 2016, as supplemented by letter dated December 5, 2016.

Brief description of amendment: The amendment updated the Technical Specifications to revise the emergency diesel generator engine-mounted fuel tank minimum volume from 200 gallons of fuel each to 238 gallons of fuel each.

Date of issuance: March 29, 2017.

Effective date: As of the date of issuance and shall be implemented within 90 days of issuance.

Amendment No.: 188. A publicly-available version is in ADAMS under Accession No. ML17038A225; documents related to this amendment are listed in the Safety Evaluation enclosed with the amendment.

Renewed Facility Operating License No. NPF-16: Amendment revised the Renewed Facility Operating License and Appendix A.

Date of initial notice in Federal Register: August 2, 2016 (81 FR 50733). The supplemental letter dated December 5, 2016, provided additional information that clarified the application, did not expand the scope of the application as originally noticed, and did not change the staff's original proposed no significant hazards consideration determination as published in the Federal Register.

The Commission's related evaluation of the amendment is contained in a Safety Evaluation dated March 29, 2017.

No significant hazards consideration comments received: No.

Indiana Michigan Power Company, Docket Nos. 50-315 and 50-316, Donald C. Cook Nuclear Plant, Unit Nos. 1 and 2, Berrien County, Michigan

Date of amendment request: November 19, 2015, as supplemented by letter dated February 4, 2016, two letters dated June 16, 2016, and letters dated September 9, 2016, and November 3, 2016.

Brief description of amendments: The amendments revised the Donald C. Cook Nuclear Plant, Units 1 and 2, Technical Specifications by relocating specific surveillance frequencies to a licensee-controlled program consistent with the NRC-approved Technical Specifications Task Force (TSTF) Improved Standard Technical Specifications Change Traveler TSTF-425, Revision 3, “Relocate Surveillance Frequencies to Licensee Control—RITSTF Initiative 5b.”

Date of issuance: March 31, 2017.

Effective date: The amendments are effective as of the date of issuance and shall be implemented within 120 days of issuance.

Amendment Nos.: 334 (Unit 1) and 316 (Unit 2). A publicly-available version is in ADAMS under Accession No. ML17045A150; documents related to these amendments are listed in the Safety Evaluation enclosed with the amendments.

Renewed Facility Operating License Nos. DPR-58 and DPR-74: The amendments revised the Renewed Facility Operating Licenses and Technical Specifications.

Date of initial notice in Federal Register: January 19, 2016 (81 FR 2918). The supplemental letters dated February 4, 2016, two letters dated June 16, 2016, and letters dated September 9, 2016, and November 3, 2016, provided additional information that clarified the application, did not expand the scope of the application as originally noticed, and did not change the staff's original proposed no significant hazards consideration determination as published in the Federal Register.

The Commission's related evaluation of the amendment is contained in a Safety Evaluation dated March 31, 2017.

No significant hazards consideration comments received: No.

Nebraska Public Power District, Docket No. 50-298, Cooper Nuclear Station (CNS), Nemaha County, Nebraska

Date of amendment request: March 22, 2016, as supplemented by two letters dated December 7, 2016.

Brief description of amendment: The amendment revised the Cooper Nuclear Station Technical Specifications by relocating specific surveillance frequencies to a licensee-controlled program consistent with the NRC-approved Technical Specifications Task Force (TSTF) Improved Standard Technical Specifications Change Traveler TSTF-425, Revision 3, “Relocate Surveillance Frequencies to Licensee Control—RITSTF [Risk-Informed TSTF] Initiative 5b” (ADAMS Accession No. ML090850642).

Date of issuance: March 31, 2017.

Effective date: As of the date of issuance and shall be implemented within 60 days of issuance.

Amendment No.: 258. A publicly-available version is in ADAMS under Accession No. ML17061A050; documents related to this amendment are listed in the Safety Evaluation enclosed with the amendment.

Renewed Facility Operating License No. DPR-46: Amendment revised the Facility Operating License and Technical Specifications.

Date of initial notice in Federal Register: May 24, 2016 (81 FR 32807). The two supplemental letters dated December 7, 2016, provided additional information that clarified the application, did not expand the scope of the application as originally noticed, and did not change the staff's original proposed no significant hazards consideration determination as published in the Federal Register.

The Commission's related evaluation of the amendment is contained in a Safety Evaluation dated March 31, 2017.

No significant hazards consideration comments received: No.

NextEra Energy Duane Arnold, LLC, Docket No. 50-331, Duane Arnold Energy Center, Linn County, Iowa

Date of amendment request: March 15, 2016, as supplemented by letters dated September 21, 2016, and December 27, 2016.

Brief description of amendment: The amendment revised the Duane Arnold Energy Center Technical Specification (TS) 4.3.1, “Fuel Storage, Criticality,” and TS 4.3.3, “Fuel Storage, Capacity,” to ensure that spent fuel pool maintains compliance with NRC subcriticality requirements for the storage racks manufactured by Programmed and Remote Systems Corporation (PaR). The amendment also adds a new requirement in TS 5.5, “Program and Manuals,” for a spent fuel pool neutron absorber monitoring program.

Date of issuance: March 30, 2017.

Effective date: As of the date of issuance and shall be implemented within 60 days of issuance.

Amendment No.: 299. A publicly-available version is in ADAMS under Accession No. ML17072A232; documents related to this amendment are listed in the Safety Evaluation enclosed with the amendment.

Renewed Facility Operating License No. DPR-49: The amendment revised the TSs.

Date of initial notice in Federal Register: July 5, 2016 (81 FR 43665). The supplemental letters dated September 21, 2016, and December 27, 2016, provided additional information that clarified the application, did not expand the scope of the application as originally noticed, and did not change the staff's original proposed no significant hazards consideration determination as published in the Federal Register.

The Commission's related evaluation of the amendment is contained in a Safety Evaluation dated March 30, 2017.

No significant hazards consideration comments received: No.

NextEra Energy Duane Arnold, LLC, Docket No. 50-331, Duane Arnold Energy Center, Linn County, Iowa

NextEra Energy Point Beach, LLC, Docket Nos. 50-266 and 50-301, Point Beach Nuclear Plant, Units 1 and 2, Town of Two Creeks, Manitowoc County, Wisconsin

NextEra Energy Seabrook, LLC, Docket No. 50-443, Seabrook Station, Unit No. 1, Rockingham County, New Hampshire

Florida Power & Light Company, et al., Docket Nos. 50-335 and 50-389, St. Lucie Plant, Unit Nos. 1 and 2, St. Lucie County, Florida

Florida Power & Light Company, Docket Nos. 50-250 and 50-251, Turkey Point Nuclear Generating Unit Nos. 3 and 4, Miami-Dade County, Florida

Date of amendment request: July 28, 2016, as supplemented by letter dated December 15, 2016.

Brief description of amendments: The amendments revised the Technical Specifications consistent with Technical Specification Task Force (TSTF) Traveler TSTF-545, Revision 3, “TS Inservice Testing Program Removal & Clarify SR Usage Rule Application to Section 5.5 Testing” (ADAMS Accession No. ML15294A555).

Date of issuance: April 7, 2017.

Effective date: As of the date of issuance and shall be implemented within 120 days of issuance.

Amendment Nos: 300, 259, 263, 154, 238, 189, 274, and 269. A publicly-available version is in ADAMS under Accession No. ML17027A078; documents related to these amendments are listed in the Safety Evaluation enclosed with the amendments.

Facility or Renewed Facility Operating License Nos. DPR-49, DPR-24, DPR-27, NPF-86, DPR-67, NPF-16, DPR-31, and DPR-41: Amendments revised the Facility or Renewed Facility Operating Licenses and Technical Specifications.

Date of initial notice in Federal Register: October 11, 2016 (81 FR 70180). The supplemental letter dated December 15, 2016, provided additional information that clarified the application, did not expand the scope of the application as originally noticed, and did not change the staff's original proposed no significant hazards consideration determination as published in the Federal Register.

The Commission's related evaluation of the amendments is contained in a Safety Evaluation dated April 7, 2017.

No significant hazards consideration comments received: No.

Omaha Public Power District, Docket No. 50-285, Fort Calhoun Station, Unit No. 1 (FCS), Washington County, Nebraska

Date of amendment request: November 18, 2016.

Brief description of amendment: The amendment deleted License Condition 3.D, “Fire Protection Program,” which requires that FCS implement and maintain a fire protection program that complies with the requirements of 10 CFR 50.48(a) and 10 CFR 50.48(c). Since power operations are terminated at FCS and the reactor is permanently defueled, FCS will maintain a fire protection program in accordance with 10 CFR 50.48(f).

Date of issuance: April 7, 2017.

Effective date: As of the date of issuance and shall be implemented within 90 days from the date of issuance.

Amendment No.: 290. A publicly-available version is in ADAMS under Accession No. ML17053A099; documents related to this amendment are listed in the Safety Evaluation enclosed with the amendment.

Renewed Facility Operating License No. DPR-40: The amendment revised the License Condition.

Date of initial notice in Federal Register: January 17, 2017 (82 FR 4931).

The Commission's related evaluation of the amendment is contained in a Safety Evaluation dated April 7, 2017.

No significant hazards consideration comments received: No.

South Carolina Electric & Gas Company, Docket Nos. 52-027 and 52-028, Virgil C. Summer Nuclear Station, Units 2 and 3, Fairfield County, South Carolina

Date of amendment request: July 11, 2016.

Brief description of amendments: The amendments authorized changes to the Virgil C. Summer Nuclear Station, Units 2 and 3, Updated Final Safety Analysis Report in the form of departures from the incorporated plant-specific Design Control Document Tier 2 information and involves changes to Combined License Appendix A Technical Specifications and associated Bases. The changes add compensation to the reactor coolant flow input signal to the Reactor Trip System instrumentation for the low reactor coolant flow reactor trip function and add Technical Specification Surveillance Requirement 3.3.1.3 to the surveillances required for the Reactor Coolant Flow-Low reactor trip.

Date of issuance: March 20, 2017.

Effective date: As of the date of issuance and shall be implemented within 30 days of issuance.

Amendment Nos.: 65. A publicly-available version is in ADAMS under Accession No. ML17040A224; documents related to these amendments are listed in the Safety Evaluation enclosed with the amendments.

Facility Combined Licenses No. NPF-93 and NPF-94: Amendments revised the Facility Combined Licenses.

Date of initial notice in Federal Register: August 16, 2016 (81 FR 54610).

The Commission's related evaluation of the amendments is contained in a Safety Evaluation dated March 20, 2017.

No significant hazards consideration comments received: No.

South Carolina Electric & Gas Company, Docket Nos. 52-027 and 52-028, Virgil C. Summer Nuclear Station, Units 2 and 3, Fairfield County, South Carolina

Date of amendment request: June 16, 2016, as revised by letters dated July 7, 2016; August 16, 2016; and October 24, 2016, and as supplemented by letter dated December 21, 2016.

Brief description of amendments: The amendments authorized changes to the Virgil C. Summer Nuclear Station, Units 2 and 3, Updated Final Safety Analysis Report in the form of departures from the incorporated plant-specific Design Control Document Tier 2* and Tier 2 information. The changes are related to the design of selected auxiliary building floors, including finned floors, CA20 module floors, and precast panel floors; main control room and instrumentation and control room ceilings; and the location of heating, ventilation, and air conditioning ducts in the main control room floor, as well as the number of supporting steel plates. General changes include various notes that explain the extent of variations in the specific design of these structures.

Date of issuance: March 28, 2017.

Effective date: As of the date of issuance and shall be implemented within 30 days of issuance.

Amendment Nos.: 67. A publicly-available version is in ADAMS under Accession No. ML17040A104; documents related to these amendments are listed in the Safety Evaluation enclosed with the amendments.

Facility Combined Licenses No. NPF-93 and NPF-94: Amendments revised the Facility Combined Licenses.

Date of initial notice in Federal Register: August 2, 2016 (81 FR 50729). By letter dated August 16, 2016, the licensee provided additional information that expanded the scope of the amendment request as originally noticed in the Federal Register. Accordingly, the NRC published a second proposed no significant hazards consideration determination in the Federal Register on September 2, 2016 (81 FR 60749), which superseded the original notice in its entirety. The supplemental letters dated October 16, 2016, and December 21, 2016, provided additional information that clarified the application, did not expand the scope of the application request as noticed on September 2, 2016, and did not change the staff's proposed no significant hazards consideration determination as published in the Federal Register on September 2, 2016.

The Commission's related evaluation of the amendments is contained in a Safety Evaluation dated March 28, 2017.

No significant hazards consideration comments received: No.

Southern Nuclear Operating Company, Docket Nos. 52-025 and 52-026, Vogtle Electric Generating Plant, Units 3 and 4, Burke County, Georgia

Date of amendment request: June 14, 2016, as revised by letters dated July 1, 2016; August 12, 2016; and October 12, 2016, and as supplemented by letter dated December 16, 2016.

Brief description of amendments: The amendments authorized changes to the Vogtle Electric Generating Plant, Units 3 and 4, Updated Final Safety Analysis Report in the form of departures from the incorporated plant specific Design Control Document Tier 2* and Tier 2 information. The changes are related to the design of selected auxiliary building floors, including finned floors, CA20 module floors, and precast panel floors; main control room and instrumentation and control room ceilings; and the location of heating, ventilation, and air conditioning ducts in the main control room floor, as well as the number of supporting steel plates. General changes include various notes that explain the extent of variations in the specific design of these structures.

Date of issuance: March 27, 2017.

Effective date: As of the date of issuance and shall be implemented within 30 days of issuance.

Amendment Nos.: 75 (Unit 3) and 74 (Unit 4). A publicly-available version is in ADAMS under Accession No. ML17037D024; documents related to these amendments are listed in the Safety Evaluation enclosed with the amendments.

Facility Combined Licenses No. NPF-91 and NPF-92: Amendments revised the Facility Combined Licenses.

Date of initial notice in Federal Register: August 2, 2016 (81 FR 50738). By letter dated August 12, 2016, the licensee provided additional information that expanded the scope of the amendment request as originally noticed in the Federal Register. Accordingly, the NRC published a second proposed no significant hazards consideration determination in the Federal Register on September 13, 2016 (81 FR 62932), which superseded the original notice in its entirety. The supplemental letters dated October 12, 2016, and December 16, 2016, provided additional information that clarified the application, did not expand the scope of the application request as noticed on September 13, 2016, and did not change the staff's proposed no significant hazards consideration determination as published in the Federal Register on September 13, 2016.

The Commission's related evaluation of the amendments is contained in a Safety Evaluation dated March 27, 2017.

No significant hazards consideration comments received: No.

Tennessee Valley Authority, Docket No. 50-391, Watts Bar Nuclear Plant, Unit 2, Rhea County, Tennessee

Date of amendment request: November 23, 2016, as supplemented by letter dated February 16, 2017.

Brief description of amendment: The amendment revised Technical Specification Surveillance Requirement (SR) 3.0.2 to extend, on a one-time basis, SRs listed in Attachments 8, 10, and 11 to Enclosure 1 of the application that are normally performed on an 18-month frequency in conjunction with a refueling outage. The change extends the due date for these SRs to October 31, 2017, which allows these SRs to be performed during the first refueling outage for the Watts Bar Nuclear Plant, Unit 2.

Date of issuance: April 7, 2017.

Effective date: As of the date of issuance and shall be implemented within 7 days of issuance.

Amendment No.: 10. A publicly-available version is in ADAMS under Accession No. ML17074A501; documents related to this amendment are listed in the Safety Evaluation enclosed with the amendment.

Facility Operating License No NPF-96: Amendment revised the Facility Operating License and Technical Specifications.

Date of initial notice in Federal Register: January 17, 2017 (82 FR 4932). The supplemental letter dated February 16, 2017, provided additional information that clarified the application, did not expand the scope of the application as originally noticed, and did not change the staff's original proposed no significant hazards consideration determination as published in the Federal Register.

The Commission's related evaluation of the amendment is contained in a Safety Evaluation dated April 7, 2017.

No significant hazards consideration comments received. No.

Tennessee Valley Authority, Docket Nos. 50-390 and 50-391, Watts Bar Nuclear Plant (WBN), Units 1 and 2, Rhea County, Tennessee

Date of amendment request: June 7, 2016.

Brief description of amendments: The amendments revised an expired footnote in WBN, Unit 1, Technical Specification (TS) 3.7.11, and corrects several editorial inconsistencies in the TS Applicability statements for WBN, Units 1 and 2. Additionally, WBN, Unit 2, TS 3.7.10, Actions, are amended to include a new TS Condition, which specifies shutdown Required Actions and associated Completion Time when TS Condition E is not met (i.e., two CREVS [control room emergency ventilation system] trains are inoperable for longer than allowed due to actions taken because of a tornado warning).

Date of issuance: March 28, 2017.

Effective date: As of the date of issuance and shall be implemented within 60 days of issuance.

Amendment Nos.: 112 (Unit 1) and 9 (Unit 2). A publicly-available version is in ADAMS under Accession No. ML16330A347; documents related to these amendments are listed in the Safety Evaluation enclosed with the amendments.

Facility Operating License Nos. NPF-90 and NPF-96: The amendments revised the Facility Operating Licenses and TSs.

Date of initial notice in Federal Register: August 2, 2016 (81 FR 50740).

The Commission's related evaluation of the amendment is contained in a Safety Evaluation dated March 28, 2017.

No significant hazards consideration comments received: No.

Dated at Rockville, Maryland, this 13th day of April 2017.
For the Nuclear Regulatory Commission.
Eric J. Benner,
Deputy Director, Division of Operating Reactor Licensing, Office of Nuclear Reactor Regulation.

[FR Doc. 2017-08115 Filed 4-24-17; 8:45 am]

BILLING CODE 7590-01-P